DEPARTMENT OF HOMELAND SECURITY

Coast Guard

33 CFR Parts 100 and 165

[Docket Number USCG-2016-0998]

RIN 1625- AA08; AA00

Special Local Regulations and Safety Zones; Recurring Marine Events Held in the Coast Guard Sector Northern New England Captain of the Port Zone

AGENCY: Coast Guard, DHS.

ACTION: Final rule.

SUMMARY: The Coast Guard is updating the special local regulations and permanent safety zones in Coast Guard Sector Northern New England Captain of the Port Zone for annual recurring marine events. When enforced, these special local regulations and safety zones will restrict vessels from portions of water areas during certain annually recurring events. The special local regulations and safety zones are intended to expedite public notification and ensure the protection of the maritime public and event participants from the hazards associated with certain maritime events.

DATES: This rule is effective without actual notice on September 21, 2017. For the purposes of enforcement, actual notice will be used from June 26, 2017 through September 21, 2017.

ADDRESSES: To view documents mentioned in this preamble as being available in the docket, go to http://www.regulations.gov, type USCG-2016-0998 in the “SEARCH” box and click “SEARCH.” Click on Open Docket Folder on the line associated with this rule.

FOR FURTHER INFORMATION CONTACT: If you have questions on this rule, call or email Chief Marine Science Technician Chris Bains, Sector Northern New England Waterways Management Division, U.S. Coast Guard; telephone 207-347-5003, email Chris.D.Bains@uscg.mil.

SUPPLEMENTARY INFORMATION:

I. Table of Abbreviations

CFR Code of Federal Regulations

DHS Department of Homeland Security

E.O. Executive order

FR Federal Register

NPRM Notice of Proposed Rulemaking

NAD 83 North American Datum of 1983

Pub. L. Public Law

§ Section

U.S.C. United States Code

II. Background Information and Regulatory History

On April 13, 2017, the Coast Guard published an NPRM in the Federal Register titled Special Local Regulations and Safety Zone; Recurring Marine Events Held in the Coast Guard Sector Northern New England Captain of the Port Zone, (82 FR 17782), proposing to update special local regulations and safety zones. There we stated why we issued the NPRM and invited comments on our proposed regulatory action. No public comments or request for a public meeting were received during the NPRM process. Swim events, fireworks displays, and marine events are held on an annual recurring basis on the navigable waters within the Coast Guard Sector Northern New England COTP Zone. In the past, the Coast Guard has established special local regulations, regulated navigation areas, and safety zones for these annual recurring events on a case by case basis to ensure the protection of the maritime public and event participants from the hazards associated with these events. In the past year, events were assessed for their likelihood to recur in subsequent years or to be discontinued. These events were added to or deleted from the tables accordingly. In addition, minor changes to existing events were made to ensure the accuracy of event details.

The purpose of this rulemaking is to reduce administrative overhead, expedite public notification of events, and ensure the protection of the maritime public during marine events in the Sector Northern New England area.

We are issuing this rule under 5 U.S.C. 553(d)(3), the Coast Guard finds that good cause exists for making it effective less than 30 days after publication in the Federal Register. The comment period for the NPRM associated with the Special Local Regulations and Safety Zone; Recurring Marine Events Held in the Coast Guard Sector Northern New England Captain of the Port Zone expired on May 15, 2017. The first events are scheduled to occur June 16, 2017. Thus, there is now insufficient time for a 30 day effective period before the need to enforce this safety zone and special local regulations. Delaying the enforcement of this safety zone and special local regulations to allow a 30 day effective period would be impracticable.

III. Legal Authority and Need for Rule

The Coast Guard issues this rulemaking under authority in 33 U.S.C. 1231. This rule updates the tables of annual recurring events in the existing regulation for the Coast Guard Sector Northern New England COTP Zone. The tables provide the event name, sponsor, and type, as well as approximate times, dates, and locations of the events. Advanced public notification of specific times, dates, regulated areas, and enforcement periods for each event will be provided through appropriate means, which may include, the Local Notice to Mariners, Broadcast Notice to Mariners, and a Notice of Enforcement published in the Federal Register at least 30 days prior to the event date. If an event does not have a date and time listed in this regulation, then the precise dates and times of the enforcement period for that event will be announced through a Local Notice to Mariners and, if time permits, a Notice of Enforcement in the Federal Register.

IV. Discussion of Comments, Changes, and the Rule

As noted above, we received no comments to the NPRM published April 13, 2017. The single change from the NPRM is the modification of one position to the Colchester Triathlon held in Colchester, VT. The Coast Guard has adjusted a mistake to a position made in the NPRM that went unnoticed until after publication in the Federal Register.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, reducing costs, harmonizing rules, and for promoting flexibility. This rule has not been designated a “significant regulatory action,” under Executive Order 12866. Accordingly, it has not been reviewed by the Office of Management and Budget.

We expect the economic impact of this rule to be minimal. Although this regulation may have some impact on the public, the potential impact will be minimized for the following reason: The Coast Guard is only modifying existing regulations to account for new information.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the regulated waters may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

F. Environment

We have analyzed this rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. This rule involves water activities including swimming events, boat races, and fireworks displays. The regulatory actions related to these activities are categorically excluded from further review under paragraph 34(g)(Safety Zones) and (34)(h)(Special Local Regulations) of Figure 2-1 of Commandant Instruction M16475.lD. A Record of Environmental Consideration (REC) supporting this finding is available in the docket where indicated under ADDRESSES. We seek any comments or information that may lead to the discovery of a significant environmental impact from this rule.

G. Protest Activities

The Coast Guard respects the First Amendment rights of protesters. Protesters are asked to contact the person listed in the FOR FURTHER INFORMATION CONTACT section to coordinate protest activities so that your message can be received without jeopardizing the safety or security of people, places or vessels.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 continues to read as follows:

Authority: 33 U.S.C. 1233

2. In § 100.120:

a. In the introductory text, remove “Table to § 100.120” everywhere it appears and adding in its place “Table 1 to § 100.120;” and

b. Revise the table to the section.

The revision reads as follows:

§ 100.120 Special Local Regulations; Marine Events Held in the Coast Guard Sector Northern New England Captain of the Port Zone.

* * * * *

Table 1 to § 100.120
5.0 | May occur May through September
5.1 Tall Ships Visiting Portsmouth | • Event Type: Regatta and Boat Parade.
| • Date: A four day event from Friday through Monday. ¹
| • Time (Approximate): 9:00 am to 8:00 pm each day.
| • Location: The regulated area includes all waters of Portsmouth Harbor, New Hampshire in the vicinity of Castle Island within the following points (NAD 83):
| 43° 03′11″ N, 070° 42′26″ W.
| 43° 03′18″ N, 070° 41′51″ W.
| 43° 04′42″ N, 070° 42′11″ W.
| 43° 04′28″ N, 070° 44′12″ W.
| 43° 05′36″ N, 070° 45′56″ W.
| 43° 05′29″ N, 070° 46′09″ W.
| 43° 04′19″ N, 070° 44′16″ W.
| 43° 04′22″ N, 070° 42′33″ W.
6.0 | JUNE
6.1 Charlie Begin Memorial Lobster Boat Races. | • Event Type: Power Boat Race.
| • Date: A one day event in June. ¹
| • Time (Approximate): 10:00 am to 3:00 pm.
| • Location: The regulated area includes all waters of Boothbay Harbor, Maine in the vicinity of John's Island within the following points (NAD 83):
| 43° 50′04″ N, 069° 38′37″ W.
| 43° 50′54″ N, 069° 38′06″ W.
| 43° 50′49″ N, 069° 37′50″ W.
| 43° 50′00″ N, 069° 38′20″ W.
6.2 Rockland Harbor Lobster Boat Races | • Event Type: Power Boat Race.
| • Date: A one day event in June. ¹
| • Time (Approximate): 9:00 am to 5:00 pm.
| • Location: The regulated area includes all waters of Rockland Harbor, Maine in the vicinity of the Rockland Breakwater Light within the following points (NAD 83):
| 44° 05′59″ N, 069° 04′53″ W.
| 44° 06′43″ N, 069° 05′25″ W.
| 44° 06′50″ N, 069° 05′05″ W.
| 44° 06′05″ N, 069° 04′34″ W.
6.3 Windjammer Days Parade of Ships | • Event Type: Tall Ship Parade.
| • Date: A one day event in June. ¹
| • Time (Approximate): 12:00 pm to 5:00 pm.
| • Location: The regulated area includes all waters of Boothbay Harbor, Maine in the vicinity of Tumbler's Island within the following points (NAD 83):
| 43° 51′02″ N, 069° 37′33″ W.
| 43° 50′47″ N, 069° 37′31″ W.
| 43° 50′23″ N, 069° 37′57″ W.
| 43° 50′01″ N, 069° 37′45″ W.
| 43° 50′01″ N, 069° 38′31″ W.
| 43° 50′25″ N, 069° 38′25″ W.
| 43° 50′49″ N, 069° 37′45″ W.
6.4 Bass Harbor Blessing of the Fleet Lobster Boat Race | • Event Type: Power Boat Race.
| • Date: A one day event in June. ¹
| • Time (Approximate): 10:00 am to 2:00 pm.
| • Location: The regulated area includes all waters of Bass Harbor, Maine in the vicinity of Lopaus Point within the following points (NAD 83):
| 44° 13′28″ N, 068° 21′59″ W.
| 44° 13′20″ N, 068° 21′40″ W.
| 44° 14′05″ N, 068° 20′55″ W.
| 44° 14′12″ N, 068° 21′14″ W.
7.0 | JULY
7.1 Burlington 3rd of July Air Show | • Event Type: Air Show.
| • Date: A one day event held near July 4th. ¹
| • Time (Approximate): 8:30 pm to 9:00 pm.
| • Location: The regulated area includes all waters of Lake Champlain, Burlington, VT within the following points (NAD 83):
| 44° 28′51″ N, 073° 14′21″ W.
| 44° 28′57″ N, 073° 13′41″ W.
| 44° 28′05″ N, 073° 13′26″ W.
| 44° 27′59″ N, 073° 14′03″ W.
7.2 Moosabec Lobster Boat Races | • Event Type: Power Boat Race.
| • Date: A one day event held near July 4th. ¹
| • Time (Approximate): 10:00 am to 12:30 pm.
| • Location: The regulated area includes all waters of Jonesport, Maine within the following points (NAD 83):
| 44° 31′21″ N, 067° 36′44″ W.
| 44° 31′36″ N, 067° 36′47″ W.
| 44° 31′44″ N, 067° 35′36″ W.
| 44° 31′29″ N, 067° 35′33″ W.
7.3 The Great Race | • Event Type: Rowing and Paddling Boat Race.
| • Date: A one day event in July. ¹
| • Time (Approximate): 10:00 am to 12:30 pm.
| • Location: The regulated area includes all waters of Lake Champlain in the vicinity of Saint Albans Bay within the following points (NAD 83):
| 44°47′18″ N, 073° 10′27″ W.
| 44°47′10″ N, 073° 08′51″ W.
7.4 Stonington Lobster Boat Races | • Event Type: Power Boat Race.
| • Date: A one day event in July. ¹
| • Time (Approximate): 8:00 am to 3:30 pm.
| • Location: The regulated area includes all waters of Stonington, Maine within the following points (NAD 83):
| 44° 08′55″ N, 068° 40′12″ W.
| 44° 09′00″ N, 068° 40′15″ W.
| 44° 09′11″ N, 068° 39′42″ W.
| 44° 09′07″ N, 068° 39′39″ W.
7.5 Mayor's Cup Regatta | • Event Type: Sailboat Parade.
| • Date: A one day event in July. ¹
| • Time (Approximate): 10:00 am to 4:00 pm.
| • Location: The regulated area includes all waters of Cumberland Bay on Lake Champlain in the vicinity of Plattsburgh, New York within the following points (NAD 83):
| 44° 41′26″ N, 073° 23′46″ W.
| 44° 40′19″ N, 073° 24′40″ W.
| 44° 42′01″ N, 073° 25′22″ W.
7.6 The Challenge Race | • Event Type: Rowing and Paddling Boat Race.
| • Date: A one day event in July. ¹
| • Time (Approximate): 11:00 am to 3:00 pm.
| • Location: The regulated area includes all waters of Lake Champlain in the vicinity of Button Bay State Park within the following points (NAD 83):
| 44° 12′25″ N, 073° 22′32″ W.
| 44° 12′00″ N, 073° 21′42″ W.
| 44° 12′19″ N, 073° 21′25″ W.
| 44° 13′16″ N, 073° 21′36″ W.
7.7 Yarmouth Clam Festival Paddle Race | • Event Type: Rowing and Paddling Boat Race.
| • Date: A one day event in July. ¹
| • Time (Approximate): 8:00 am to 4:00 pm.
| • Location: The regulated area includes all waters in the vicinity of the Royal River outlet and Lane's Island within the following points (NAD 83):
| 43° 47′47″ N, 070° 08′40″ W.
| 43° 47′50″ N, 070° 07′13″ W.
| 43° 47′06″ N, 070° 07′32″ W.
| 43° 47′17″ N, 070° 08′25″ W.
7.8 Maine Windjammer Lighthouse Parade | • Event Type: Wooden Boat Parade.
| • Date: A one day event in July. ¹
| • Time (Approximate): 1:00 pm to 3:00 pm.
| • Location: The regulated area includes all waters of Rockland Harbor, Maine in the vicinity of the Rockland Harbor Breakwater within the following points (NAD 83):
| 44° 06′14″ N, 069° 03′48″ W.
| 44° 05′50″ N, 069° 03′47″ W.
| 44° 06′14″ N, 069° 05′37″ W.
| 44° 05′50″ N, 069° 05′37″ W.
7.9 Friendship Lobster Boat Races | • Event Type: Power Boat Race.
| • Date: A one day event during a weekend between the 15th of July and the 15th of August. ¹
| • Time (Approximate): 9:30 am to 3:00 pm.
| • Location: The regulated area includes all waters of Friendship Harbor, Maine within the following points (NAD 83):
| 43° 57′51″ N, 069° 20′46″ W.
| 43° 58′14″ N, 069° 19′53″ W.
| 43° 58′19″ N, 069° 20′01″ W.
| 43° 58′00″ N, 069° 20′46″ W.
8.0 | AUGUST
8.1 Eggemoggin Reach Regatta | • Event Type: Wooden Boat Parade.
| • Date: A one day event on a Saturday between the 15th of July and the 15th of August. ¹
| • Time (Approximate): 11:00 am to 7:00 pm.
| • Location: The regulated area includes all waters of Eggemoggin Reach and Jericho Bay in the vicinity of Naskeag Harbor, Maine within the following points (NAD 83):
| 44° 15′16″ N, 068° 36′26″ W.
| 44° 12′41″ N, 068° 29′26″ W.
| 44° 07′38″ N, 068° 31′30″ W.
| 44° 12′54″ N, 068° 33′46″ W.
8.2 Southport Rowgatta Rowing and Paddling Boat Race | • Event Type: Rowing and Paddling Boat Race.
| • Date: A one day event in August. ¹
| • Time (Approximate): 8:00 am to 3:00 pm.
| • Location: The regulated area includes all waters of Sheepscot Bay and Boothbay, on the shore side of Southport Island, Maine within the following points (NAD 83):
| 43° 50′26″ N, 069° 39′10″ W.
| 43° 49′10″ N, 069° 38′35″ W.
| 43° 46′53″ N, 069° 39′06″ W.
| 43° 46′50″ N, 069° 39′32″ W.
| 43° 49′07″ N, 069° 41′43″ W.
| 43° 50′19″ N, 069° 41′14″ W.
| 43° 51′11″ N, 069° 40′06″ W.
8.3 Winter Harbor Lobster Boat Races | • Event Type: Power Boat Race.
| • Date: A one day event in August. ¹
| • Time (Approximate): 9:00 am to 3:00 pm.
| • Location: The regulated area includes all waters of Winter Harbor, Maine within the following points (NAD 83):
| 44° 22′06″ N, 068° 05′13″ W.
| 44° 23′06″ N, 068° 05′08″ W.
| 44° 23′04″ N, 068° 04′37″ W.
| 44° 22′05″ N, 068° 04′44″ W.
8.4 Lake Champlain Dragon Boat Festival | • Event Type: Rowing and Paddling Boat Race.
| • Date: A one day event in August. ¹
| • Time (Approximate): 7:00 am to 5:00 pm.
| • Location: The regulated area includes all waters of Burlington Bay within the following points (NAD 83):
| 44° 28′49″ N, 073° 13′22″ W.
| 44° 28′41″ N, 073° 13′36″ W.
| 44° 28′28″ N, 073° 13′31″ W.
| 44° 28′38″ N, 073° 13′18″ W.
8.5 Merritt Brackett Lobster Boat Races | • Event Type: Power Boat Race.
| • Date: A one day event in August. ¹
| • Time (Approximate): 10:00 am to 3:00 pm.
| • Location: The regulated area includes all waters of Pemaquid Harbor, Maine within the following points (NAD 83):
| 43° 52′16″ N, 069° 32′10″ W.
| 43° 52′41″ N, 069° 31′43″ W.
| 43° 52′35″ N, 069° 31′29″ W.
| 43° 52′09″ N, 069° 31′56″ W.
8.6 Multiple Sclerosis Regatta | • Event Type: Regatta and Sailboat Race.
| • Date: A one day event in August. ¹
| • Time (Approximate): 10:00 am to 4:00 pm.
| • Location: The regulated area for the start of the race includes all waters of Casco Bay, Maine in the vicinity of Peaks Island within the following points (NAD 83):
| 43° 40′24″ N, 070° 14′20″ W.
| 43° 40′36″ N, 070° 13′56″ W.
| 43° 39′58″ N, 070° 13′21″ W.
| 43° 39′46″ N, 070° 13′51″ W.
8.7 Multiple Sclerosis Harborfest Lobster Boat/Tugboat Races | • Event Type: Power Boat Race.
| • Date: A one day event in August. ¹
| • Time (Approximate): 10:00 am to 3:00 pm.
| • Location: The regulated area includes all waters of Portland Harbor, Maine in the vicinity of Maine State Pier within the following points (NAD 83):
| 43° 40′25″ N, 070° 14′21″ W.
| 43° 40′36″ N, 070° 13′56″ W.
| 43° 39′58″ N, 070° 13′21″ W.
| 43° 39′47″ N, 070° 13′51″ W.
8.8 Long Island Lobster Boat Race | • Event Type: Power Boat Race.
| • Date: A one day event in August. ¹
| • Time (Approximate): 10:00 am to 3:00 pm.
| • Location: The regulated area includes all waters of Casco Bay, Maine in the vicinity of Great Ledge Cove and Dorseys Cove off the north west coast of Long Island, Maine within the following points (NAD 83):
| 43° 41′59″ N, 070° 08′59″ W.
| 43° 42′04″ N, 070° 09′10″ W.
| 43° 41′41″ N, 070° 09′38″ W.
| 43° 41′36″ N, 070° 09′30″ W.
¹ Date subject to change. Exact date will be posted in Notice of Enforcement and Local Notice to Mariners.

PART 165—REGULATED NAVIGATION AREAS AND LIMITED ACCESS AREAS

3. The authority citation for part 165 continues to read as follows:

Authority: 33 U.S.C. 1231; 50 U.S.C. 191; 33 CFR 1.05-1, 6.04-1, 6.04-6, and 160.5; Department of Homeland Security Delegation No. 0170.1.

4. In § 165.171:

a. In the introductory text, remove “Table to § 165.171” everywhere it appears and adding in its place “Table 1 to § 165.171;” and

b. Revise the table to the section.

The revision reads as follows:

§ 165.171 Safety Zones for fireworks displays and swim events held in Coast Guard Sector Northern New England Captain of the Port Zone.

* * * * *

Table 1 to § 165.171
6.0 | JUNE
6.1 Rotary Waterfront Days Fireworks | • Event Type: Fireworks Display.
| • Date: Two night event on a Wednesday and Saturday in June. ¹
| • Time (Approximate): 8:00 pm to 10:00 pm.
| • Location: In the vicinity of the Gardiner Waterfront, Gardiner, Maine in approximate position:
| 44° 13′52″ N, 069° 46′08″ W (NAD 83).
6.2 LaKermesse Fireworks | • Event Type: Fireworks Display.
| • Date: One night event in June. ¹
| • Time (Approximate): 8:00 pm to 10:00 pm.
| • Location: Biddeford, Maine in approximate position:
| 43° 29′37″ N, 070° 26′47″ W (NAD 83).
6.3 Windjammer Days Fireworks | • Event Type: Fireworks Display.
| • Date: One night event in June. ¹
| • Time (Approximate): 8:00 pm to 10:30 pm.
| • Location: In the vicinity of McFarland Island, Boothbay Harbor, Maine in approximate position:
| 43° 50′38″ N, 069° 37'57″ W (NAD 83).
7.0 | JULY
7.1 Vinalhaven 4th of July Fireworks | • Event Type: Firework Display.
| • Date: One night event in July. ¹
| • Time (Approximate): 8:00 pm to 10:30 pm.
| • Location: In the vicinity of Grime's Park, Vinalhaven, Maine in approximate position:
| 44° 02′34″ N, 068° 50′26″ W (NAD 83).
7.2 Burlington Independence Day Fireworks | • Event Type: Firework Display.
| • Date: One night event in July. ¹
| • Time (Approximate): 9:00 pm to 11:00 pm.
| • Location: From a barge in the vicinity of Burlington Harbor, Burlington, Vermont in approximate position:
| 44° 28′31″ N, 073° 13′31″ W (NAD 83).
7.3 Camden 3rd of July Fireworks | • Event Type: Fireworks Display.
| • Date: One night event in July. ¹
| • Time (Approximate): 8:00 pm to 10:00 pm.
| • Location: In the vicinity of Camden Harbor, Maine in approximate position:
| 44° 12′32″ N, 069° 02′58″ W (NAD 83).
7.4 Bangor 4th of July Fireworks | • Event Type: Fireworks Display.
| • Date: One night event in July. ¹
| • Time (Approximate): 8:00 pm to 10:30 pm.
| • Location: In the vicinity of the Bangor Waterfront, Bangor, Maine in approximate position:
| 44° 47′27″ N, 068° 46′31″ W (NAD 83).
7.5 Bar Harbor 4th of July Fireworks | • Event Type: Fireworks Display.
| • Date: One night event in July. ¹
| • Time (Approximate): 8:00 pm to 10:30 pm.
| • Location: In the vicinity of Bar Harbor Town Pier, Bar Harbor, Maine in approximate position:
| 44° 23′31″ N, 068° 12′15″ W (NAD 83).
7.6 Boothbay Harbor 4th of July Fireworks | • Event Type: Fireworks Display.
| • Date: One night event in July. ¹
| • Time (Approximate): 8:00 pm to 10:30 pm.
| • Location: In the vicinity of McFarland Island, Boothbay Harbor, Maine in approximate position:
| 43° 50′38″ N, 069° 37′57″ W (NAD 83).
7.7 Eastport 4th of July Fireworks | • Event Type: Fireworks Display.
| • Date: One night event in July. ¹
| • Time (Approximate): 9:00 pm to 9:30 pm.
| • Location: From the Waterfront Public Pier in Eastport, Maine in approximate position:
| 44° 54′25″ N, 066° 58′55″ W (NAD 83).
7.8 Ellis Short Sand Park Trustee Fireworks | • Event Type: Fireworks Display.
| • Date: One night event in July. ¹
| • Time (Approximate): 8:30 pm to 11:00 pm.
| • Location: In the vicinity of York Beach, Maine in approximate position:
| 43° 10′30″ N, 070° 36′22″ W (NAD 83).
7.9 Hampton Beach 4th of July Fireworks | • Event Type: Fireworks Display.
| • Date: One night event in July. ¹
| • Time (Approximate): 8:30 pm to 11:00 pm.
| • Location: In the vicinity of Hampton Beach, New Hampshire in approximate position:
| 42° 54′40″ N, 070° 36′25″ W (NAD 83).
7.10 Moosabec 4th of July Committee Fireworks | • Event Type: Fireworks Display.
| • Date: One night event in July. ¹
| • Time (Approximate): 8:00 pm to 10:30 pm.
| • Location: In the vicinity of Beals Island, Jonesport, Maine in approximate position:
| 44° 31′18″ N, 067° 36′43″ W (NAD 83).
7.11 Lubec 4th of July Fireworks | • Event Type: Fireworks Display.
| • Date: One night event in July. ¹
| • Time (Approximate): 8:00 pm to 10:30 pm.
| • Location: In the vicinity of the Lubec Public Boat Launch in approximate position:
| 44° 51′52″ N, 066° 59′06″ W (NAD 83).
7.12 Main Street Heritage Days 4th of July Fireworks | • Event Type: Fireworks Display.
| • Date: One night event in July. ¹
| • Time (Approximate): 8:00 pm to 10:30 pm.
| • Location: In the vicinity of Reed and Reed Boat Yard, Woolwich, Maine in approximate position:
| 43° 54′56″ N, 069° 48′16″ W (NAD 83).
7.13 Portland Harbor 4th of July Fireworks | • Event Type: Fireworks Display.
| • Date: One night event in July. ¹
| • Time (Approximate): 8:30 pm to 10:30 pm.
| • Location: In the vicinity of East End Beach, Portland, Maine in approximate position:
| 43° 40′16″ N, 070° 14′44″ W (NAD 83).
7.14 St. Albans Day Fireworks | • Event Type: Fireworks Display.
| • Date: One night event in July. ¹
| • Time (Approximate): 9:00 pm to 10:00 pm.
| • Location: From the St. Albans Bay dock in St. Albans Bay, Vermont in approximate position:
| 44° 48′25″ N, 073° 08′23″ W (NAD 83).
7.15 Stonington 4th of July Fireworks | • Event Type: Fireworks Display.
| • Date: One night event in July. ¹
| • Time (Approximate): 8:00 pm to 10:30 pm.
| • Location: In the vicinity of Two Bush Island, Stonington, Maine in approximate position:
| 44° 08′57″ N, 068° 39′54″ W (NAD 83).
7.16 Southwest Harbor 4th of July Fireworks | • Event Type: Fireworks Display.
| • Date: One night event in July. ¹
| • Time (Approximate): 8:00 pm to 10:30 pm.
| • Location: Southwest Harbor, Maine in approximate position:
| 44° 16′25″ N, 068° 19′21″ W (NAD 83).
7.17 Shelburne Triathlons | • Event Type: Swim Event.
| • Date: Up to three Saturdays throughout July and August. ¹
| • Time (Approximate): 7:00 am to 11:00 am.
| • Location: The regulated area includes all waters of Lake Champlain in the vicinity of Shelburne Beach in Shelburne, Vermont within a 400 yard radius of the following point:
| 44° 21′45″ N, 075° 15′58″ W (NAD 83).
7.18 St. George Days Fireworks | • Event Type: Fireworks.
| • Date: One night event in July. ¹
| • Time (Approximate): 8:30 pm to 10:30 pm.
| • Location: The regulated area includes all waters of Inner Tenants Harbor, ME, in approximate position:
| 43° 57′41.37″ N, 069° 12′45″ W (NAD 83).
7.190 Tri for a Cure Swim Clinics and Triathlon | • Event Type: Swim Event.
| • Date: A multi-day event held throughout July. ¹
| • Time (Approximate): 8:30 am to 11:30 am.
| • Location: The regulated area includes all waters of Portland Harbor, Maine in the vicinity of Spring Point Light within the following points (NAD 83):
| 43° 39′01″ N, 070° 13′32″ W.
| 43° 39′07″ N, 070° 13′29″ W.
| 43° 39′06″ N, 070° 13′41″ W.
| 43° 39′01″ N, 070° 13′36″ W.
7.20 Richmond Days Fireworks | • Event Type: Fireworks Display.
| • Date: A one day event in July. ¹
| • Time (Approximate): 8:00 pm to 10:00 pm.
| • Location: From a barge in the vicinity of the inner harbor, Tenants Harbor, Maine in approximate position:
| 44° 08′42″ N, 068° 27′06″ W (NAD83).
7.21 Colchester Triathlon | • Event Type: Swim Event.
| • Date: A one day event in July. ¹
| • Time (Approximate): 7:00 am to 11:00 am.
| • Location: The regulated area includes all waters of Malletts Bay on Lake Champlain, Vermont within the following points (NAD 83):
| 44° 32′57″ N, 073° 13′00″ W.
| 44° 32′46″ N, 073° 13′00″ W.
| 44° 33′24″ N, 073° 11′43″ W.
| 44° 33′14″ N, 073° 11′35″ W.
7.22 Peaks to Portland Swim | • Event Type: Swim Event.
| • Date: A one day event in July. ¹
| • Time (Approximate): 5:00 am to 1:00 pm.
| • Location: The regulated area includes all waters of Portland Harbor between Peaks Island and East End Beach in Portland, Maine within the following points (NAD 83):
| 43° 39′20″ N, 070° 11′58″ W.
| 43° 39′45″ N, 070° 13′19″ W.
| 43° 40′11″ N, 070° 14′13″ W.
| 43° 40′08″ N, 070° 14′29″ W.
| 43° 40′00″ N, 070° 14′23″ W.
| 43° 39′34″ N, 070° 13′31″ W.
| 43° 39′13″ N, 070° 11′59″ W.
7.23 Friendship Days Fireworks | • Event Type: Fireworks Display.
| • Date: A one day event in July. ¹
| • Time (Approximate): 8:00 pm to 10:30 pm.
| • Location: In the vicinity of the Town Pier, Friendship Harbor, Maine in approximate position:
| 43° 58′23″ N, 069° 20′12″ W (NAD83).
7.24 Bucksport Festival and Fireworks | • Event Type: Fireworks Display.
| • Date: A one day event in July. ¹
| • Time (Approximate): 8:00 pm to 10:30 pm.
| • Location: In the vicinity of the Verona Island Boat Ramp, Verona, Maine, in approximate position:
| 44° 34′9″ N, 068° 47′28″ W (NAD83).
7.25 Nubble Light Swim Challenge | • Event Type: Swim Event.
| • Date: A one day event in July. ¹
| • Time (Approximate): 9:00 am to 12:30 pm.
| • Location: The regulated area includes all waters around Cape Neddick, Maine and within the following coordinates:
| 43° 10′28″ N, 070° 36′26″ W.
| 43° 10′34″ N, 070° 36′06″ W.
| 43° 10′30″ N, 070° 35′45″ W.
| 43° 10′17″ N, 070° 35′24″ W.
| 43° 09′54″ N, 070° 35′18″ W.
| 43° 09′42″ N, 070° 35′37″ W.
| 43° 09′51″ N, 070° 37′05″ W.
7.26 Paul Coulombe Anniversary Fireworks | • Event Type: Fireworks Display.
| • Date: A one day event in July. ¹
| • Time: 8:00 pm to 11:30 pm.
| • Location: In the vicinity of Pratt Island, Southport, ME, in approximate position:
| 43° 48′44″ N, 069° 41′11″ W (NAD83).
7.27 Castine 4th of July Fireworks | • Event Type: Fireworks Display.
| • Date: One night event in July. ¹
| • Time (Approximate): 9:00 pm to 10:30 pm.
| • Location: In the vicinity of the town dock in the Castine Harbor, Castine, Maine in approximate position:
| 44°23′10″ N, 068°47′28″W (NAD 83).
8.0 | AUGUST
8.1 Westerlund's Landing Party Fireworks | • Event Type: Fireworks Display.
| • Date: A one day event in August. ¹
| • Time (Approximate): 8:00 pm to 10:30 pm.
| • Location: In the vicinity of Westerlund's Landing in South Gardiner, Maine in approximate position:
| 44° 10′19″ N, 069° 45′24″ W (NAD 83).
8.2 York Beach Fire Department Fireworks | • Event Type: Fireworks Display.
| • Date: A one day event in August. ¹
| • Time (Approximate): 8:30 pm to 11:30 pm.
| • Location: In the vicinity of Short Sand Cove in York, Maine in approximate position:
| 43° 10′27″ N, 070° 36′25″ W (NAD 83).
8.3 North Hero Air Show | • Event Type: Air Show.
| • Date: A one day event in August. ¹
| • Time (Approximate): 10:00 am to 5:00 pm.
| • Location: In the vicinity of Shore Acres Dock, North Hero, Vermont in approximate position:
| 44° 48′24″ N, 073° 17′02″ W.
| 44° 48′22″ N, 073° 16′46″ W.
| 44° 47′53″ N, 073° 16′54″ W.
| 44° 47′54″ N, 073° 17′09″ W.
8.4 Islesboro Crossing Swim | • Event Type: Swim Event.
| • Date: A one day event in August. ¹
| • Time: (Approximate): 6:00 am to 11:00 am.
| • Location: West Penobscot Bay from Ducktrap Beach, Lincolnville, ME to Grindel Point, Islesboro, ME, in approximate position:
| 44° 17′44″ N, 069° 00′11″ W.
| 44° 16′58″ N, 068° 56′35″ W.
8.5 Paul Columbe Party Fireworks | • Event Type: Fireworks Display.
| • Date: A one day event in August. ¹
| • Time (Approximate): 9:00 pm to 10:30 pm.
| • Location: From a barge in the vicinity of Pratt Island, Southport, Maine in approximate position:
| 43° 48′69″ N, 069° 41′18″ W (NAD 83)
8.6 Casco Bay Island Swim/Run | • Event Type: Swim/Run Event.
| • Date: A one day event in August. ¹
| • Time (Approximate): 7:30 am to 1:00 pm.
| • Location: All waters of Casco Bay, Maine in the vicinity of Casco Bay Island archipelago and within the following coordinates (NAD 83):
| 43° 42′47″ N, 070° 07′07″ W.
| 43° 38′09″ N, 070° 11′57″ W.
| 43° 34′57″ N, 070° 12′55″ W.
| 43° 41′31″ N, 070° 11′37″ W.
| 43° 43′25″ N, 070° 08′25″ W.
8.7 Port Mile Swim | • Event Type: Swim Event.
| • Date: A one day event August. ¹
| • Time (Approximate): 7:00 am to 9:00 am.
| • Location: All waters of Casco Bay, Maine in the vicinity of East End Beach within the following points (NAD 83):
| 43° 40′09″ N, 070° 14′27″ W.
| 43° 40′05″ N, 070° 14′01″ W.
| 43° 40′21″ N, 070° 14′09″ W.
8.8 Challenge Maine Triathlon | • Event Type: Swim Event.
| • Date: A one day event August. ¹
| • Time (Approximate): 6:00 am to 08:30 am.
| • Location: All waters of Saco Bay, Maine in the vicinity of Old Orchard Beach within the following points (NAD 83):
| 43° 30′57″ N, 070° 22′22″ W.
| 43° 30′48″ N, 070° 21′58″ W.
| 43° 30′29″ N, 070° 22′43″ W.
| 43° 30′19″ N, 070° 22′21″ W.
9.0 | SEPTEMBER
9.1 Windjammer Weekend Fireworks | • Event Type: Fireworks Display.
| • Date: A one night event in September. ¹
| • Time (Approximate): 8:00 pm to 9:30 pm.
| • Location: From a barge in the vicinity of Northeast Point, Camden Harbor, Maine in approximate position:
| 44° 12′10″ N, 069° 03′11″W (NAD 83).
9.2 Eastport Pirate Festival Fireworks | • Event Type: Fireworks Display.
| • Date: A one night event in September. ¹
| • Time (Approximate): 7:00 pm to 10:00 pm.
| • Location: From the Waterfront Public Pier in Eastport, Maine in approximate position:
| 44° 54′17″ N, 066° 58′58″W (NAD 83).
9.3 The Lobsterman Triathlon | • Event Type: Swim Event.
| • Date: A one day event in September. ¹
| • Time (Approximate): 8:00 am to 11:00 am.
| • Location: The regulated area includes all waters in the vicinity of Winslow Park in South Freeport, Maine within the following points (NAD 83):
| 43° 47′59″ N, 070° 06′56″ W.
| 43° 47′44″ N, 070° 06′56″ W.
| 43° 47′44″ N, 070° 07′27″ W.
| 43° 47′57″ N, 070° 07′27″ W.
9.4 Eliot Festival Day Fireworks | • Event Type: Fireworks Display.
| • Date: A one night event in September. ¹
| • Time (Approximate): 8:00 pm to 10:30 pm.
| • Location: In the vicinity of Eliot Town Boat Launch, Eliot, Maine in approximate position:
| 43° 08′56″ N, 070° 49′52″ W (NAD 83).
9.5 Lake Champlain Swimming Race | • Event Type: Swim Event.
| Date: A one day event in September. ¹
| • Time (Approximate): 9:00 am to 3 pm.
| • Location: Essex Beggs Point Park, Essex, NY, to Charlotte Beach, Charlotte, VT.
| 44° 18′32″ N, 073° 20′52″ W.
| 44° 20′03″ N, 073° 16′53″ W.
¹ Date subject to change. Exact date will be posted in Notice of Enforcement and Local Notice to Mariners.

Dated: June 26, 2017.
M.A. Baroody,
Captain, U.S. Coast Guard, Captain of the Port, Sector Northern New England.

[FR Doc. 2017-20151 Filed 9-20-17; 8:45 am]

BILLING CODE 9110-04-P